DEPARTMENT OF AGRICULTURE

Notice of Request for Approval of an Information Collection

AGENCY: Office of the Chief Economist, Office of Pest Management Policy, USDA.

ACTION: Notice and request for comments.

SUMMARY: In accordance with the Paperwork Reduction Act of 1995, this notice announces the intention of USDA's Office of Pest Management Policy to request renewal of an existing information collection for Multiple Crop and Pesticide Use Surveys.

DATES: Comments on this notice must be received by April 2, 2024 to be assured of consideration.

ADDRESSES: USDA invites interested persons to submit comments on this notice. Comments may be submitted by one of the following methods:

• Federal eRulemaking Portal: This website provides the ability to type short comments directly into the comment field on this web page or attach a file for lengthier comments. Go to https://www.regulations.gov. Follow the on-line instructions at that site for submitting comments.

• Mail, including CD-ROMs, etc.: Send to Docket Clerk, U.S. Department of Agriculture, Office of Pest Management Policy, 1400 Independence Ave. SW, Room3871—South Building, Mailstop 3817, Washington, DC 20250-3700.

• Hand- or courier-delivered submittals: Deliver to 1400 Independence Ave. SW, Room4054—South Building, Washington, DC 20250-3700. You may also want to send comments to the Desk Officer for Agriculture, Office of Information and Regulatory Affairs, Office of Management and Budget, Washington, DC 20503.

Instructions: All items submitted by mail or electronic mail must include the Agency name and docket number. Comments received in response to this docket will be made available for public inspection and posted without change, including any personal information, to https://www.regulations.gov.

FOR FURTHER INFORMATION CONTACT: Michelle Ranville, Office of the Chief Economist, Office of Pest Management Policy, U.S. Department of Agriculture, 1400 Independence Ave. SW, Washington, DC 20250-3700, (202) 577-1980.

SUPPLEMENTARY INFORMATION:

Title: Generic Clearance to Conduct Multiple Crop and Pesticide Use Surveys.

OMB Number: 0503-0026.

Expiration Date of Approval: Three years from approval date.

Type of Request: Renewal and revision of a currently approved information collection.

Abstract: The Office of Pest Management Policy (OPMP) of the United States Department of Agriculture (USDA) requests approval from the Office of Management and Budget (OMB) for generic clearance that will allow OPMP to collect information from agricultural entities. The primary purpose of this information will be to support OPMP's understanding of agricultural practices pertaining to pest management. OPMP is undertaking this effort to satisfy legislative requirements outlined in Title X, Section 10109 of the 2018 Farm Bill, which mandates that The Secretary of Agriculture, acting through the Office of the Chief Economist's Director of OPMP, collect this information.

Pest management information is critical to supporting a key responsibility of OPMP, i.e., to “consult with agricultural producers that may be affected by pest management or pesticide-related activities or actions of the Department or other agencies,” as outlined in the Agricultural Research, Extension, and Education Reform Act of 1998. The information collected under this approval improves OPMP's ability to better understand the utilization of pest management tools by agricultural producers via input from producers and pest management advisors, including extension experts and crop consultants, who in addition to being advisors are often agricultural producers themselves. Data collected are intended to capture agricultural practices and needs to support federal activities that pertain to pest management, which are typically time-sensitive and necessitate the need for rapid data collection.

In most cases, the turnaround time for these information collections will be a function of 60-day public comment periods associated with pesticide licensing actions, making it essential for OPMP to promptly administer requests and collect responses. Various factors drive what types of questions OPMP may ask, including the active ingredient, crop, region, application method, and specific target pest problems. Examples of questions include inquiries regarding pesticide usage, the availability and comparative utility of alternative pest management tactics for target pests, the feasibility of pesticide mitigations, and resistance management concerns. Further, OPMP often needs to understand niche pest situations on specific crops and/or regions, which typically is not information that is readily available from other sources.

This effort does not intend to duplicate information collection activities administered by USDA's National Agricultural Statistics Service (NASS) that pertain to pest management. When needed data are current and available through NASS collection efforts, it is OPMP's policy to utilize and recognize such information as Best Available Data.

These data will be collected under the authority of 7 U.S.C. 2204(a). Individually identifiable data collected under this authority are governed by section 1770 of the Food Security Act of 1985, 7 U.S.C. 2276. This Notice is submitted in accordance with the Paperwork Reduction Act of 1995 (Pub. L. 104-113) and Office of Management and Budget regulations at 5 CFR part 1320 (60 FR 44978, August 29, 1995).

Estimate of Burden: Public reporting burden for this collection of information is estimated to average 15 minutes per response. Outside of upfront demographic questions, no more than fifteen questions will be asked per response.

Type of Respondents: American Society of Agronomy (ASA) Certified Crop Advisors (CCAs); crop consultants associated with the National Alliance of Independent Crop Consultants (NAICC); county extension agents affiliated with the National Association of County Agricultural Agents (NACAA); other agricultural stakeholders, such as farmers, ranchers, nursery operators, animal operations (cattle, chickens, catfish, etc.), foresters, beekeepers, farm managers, farm contractors, extermination and pest control operators, postharvest crop packing and/or processing activities, cotton ginning, etc.; university agricultural academics/experts (other than those represented through NACAA); and/or other specialists that work with or on behalf of these groups.

Estimated Number of Respondents: Given that it is impossible to predict the number of impactful federal actions that pertain to pest management in any given year, the entire universe of specialists employed in the areas outlined above could be considered as possible respondents. Realistically, however, only a small subset of these individuals is expected to respond to a request. Using estimates provided by the ASA, the NAICC, and the NACAA, as of November 2023 there were 10,720 CCAs in the United States, 604 NAICC independent crop consultants, and 3,259 agricultural experts affiliated with the NACAA. Although some individuals are both CCAs and independent crop consultants, at most the total universe of crop advisors/consultants is 14,583 respondents. OPMP adds 1,000 to this number to account for outreach to smaller stakeholder groups for knowledge/information on pest management that may not be readily available from crop consultants (e.g., pest management in packing houses, commercial seed treatment practices, etc.). On the first iteration of this ICR, NASS survey methodologists estimated a response rate of 15% should be expected until further empirical data is available. OPMP has retained this estimate for the revision of this ICR. This could lead to a maximum number of 2,338 total respondents per survey. Potential respondents will be contacted by email. They will have the option to quickly read a summary of the survey topic and delete the survey request if it is not applicable to them. OPMP estimates a burden of 1 minute per non-response, though it is likely to be even lower.

Estimated Number of Responses: It is not possible to precisely predict the number of significant actions or activities that would necessitate OPMP conducting an information collection request. From 2016 to 2019, EPA made approximately 40 requests to OPMP for information across a total of more than 85 crops. From 2020 to 2023, that number of requests was lower, approximately 30 requests. But EPA also issued roughly 200 Proposed Interim Decisions (PIDs) over that time period in addition to more than 100 Draft Risk Assessments (DRAs). OPMP provided written responses to the vast majority of these actions. OPMP does not need to seek additional information for all actions, and each action typically only applies to a subset of crops grown in the United States. However, for actions that apply broadly to multiple crops and regions, OPMP may want to seek broad input from producers of many crops. EPA actions are typically posted to the docket in quarterly batches. Thus, OPMP may be able to combine questions across multiple crops, active ingredients, practices, etc., into one survey. For this collection request, the crop consultant groups (total 14,583) could be contacted up to eight times annually. Up to 15 percent of those may provide responses to questionnaires, or 17,500 responses per year. In addition, other niche groups, up to 1,000 respondents total across groups, may be contacted up to two times annually for an additional 300 responses. This amounts to approximately 17,800 responses per year maximum.

Estimated Number of Responses per Respondent: Respondents will be contacted no more than eight times annually.

Estimated Total Annual Burden on Respondents: 6,131 burden hours annually, or 18,393 hours over the three-year life of the ICR.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to United States Department of Agriculture, 1400 Independence Ave. SW, Room 4054, Washington, DC 20250-9810. All comments received will be available for public inspection during regular business hours at the same address.

All responses to this notice will be summarized and included in the request for OMB approval. All comments will become a matter of public record.

Cynthia Nickerson,
Deputy Chief Economist, United States Department of Agriculture.

[FR Doc. 2024-02129 Filed 2-1-24; 8:45 am]

BILLING CODE 3410-18-P